DEPARTMENT OF COMMERCE

National Oceanic and Atmospheric Administration

RIN 0648-XH075

Mid-Atlantic Fishery Management Council (MAFMC); Public Hearings

AGENCY: National Marine Fisheries Service (NMFS), National Oceanic and Atmospheric Administration (NOAA), Commerce.

ACTION: Notice of public hearings.

SUMMARY: The Mid-Atlantic Fishery Management Council (Council) will hold 4 public hearings, including one webinar hearing, to solicit public comments on the Draft Atlantic Surfclam and Ocean Quahog Excessive Shares Amendment to the Atlantic Surfclam and Ocean Quahog Fishery Management Plan (FMP).

DATES: Written public comments must be received on or before 11:59 p.m. EST, September 14, 2019. The public hearings will be held between August 1, 2019 and September 10, 2019. For specific dates and times, see SUPPLEMENTARY INFORMATION.

ADDRESSES: The hearing document is accessible electronically via the internet at: http://www.mafmc.org/actions/scoq-excessive-shares-amendment or by request to Dr. Chris Moore, Executive Director, Mid-Atlantic Fishery Management Council, 800 N State Street, Suite 201, Dover, DE 19901; telephone: (302) 674-2331.

Meeting addresses: The public hearings will be held in Cape May, NJ; Salisbury, MD; Warwick, RI. One additional hearing will be held by internet webinar. For specific locations, see SUPPLEMENTARY INFORMATION.

Public comments: Written comments may be sent by any of the following methods:

• Email to: jmontanez@mafmc.org. Include “SCOQ Excessive Shares Amendment Comments” in the subject line.

• Via web form at: http://www.mafmc.org/comments/scoq-excessive-shares-amendment.

• Mail to: Dr. Christopher M. Moore, Executive Director, Mid-Atlantic Fishery Management Council, 800 N State Street, Suite 201, Dover, DE 19901. Mark the outside of the envelope “SCOQ Excessive Shares Amendment Comments.”

• Fax to: (302) 674-5399.

FOR FURTHER INFORMATION CONTACT: Christopher M. Moore, Ph.D., Executive Director, Mid-Atlantic Fishery Management Council, telephone: (302) 526-5255.

SUPPLEMENTARY INFORMATION: The Mid-Atlantic Fishery Management Council is preparing an amendment to the Atlantic Surfclam and Ocean Quahog FMP, known as the “Atlantic Surfclam and Ocean Quahog Excessive Shares Amendment.”

This amendment considers a variety of approaches to ensure that no individual, corporation, or other entity acquires an excessive share of the Atlantic surfclam and ocean quahog individual transferrable quota (ITQ) privileges. In addition, this action includes measures to revise the process for specifying multi-year management measures, require periodic review of the excessive share cap level, and allow adjustments to be made under the frameworkable provisions of the FMP. Lastly, this action may also revise the management objectives for the Atlantic Surfclam and Ocean Quahog FMP.

Additional information, including the amendment document are available at: http://www.mafmc.org/actions/scoq-excessive-shares-amendment.

The Council will hold 4 public hearings on this amendment, during which Council staff will brief the public on the contents of the amendment document and alternatives under consideration, prior to opening the hearing for public comments. The hearings schedule is as follows:

1. Thursday, August 1, 2019 at 6:30 p.m.: The Grand Hotel. 1045 Beach Avenue, Cape May, NJ 08204; telephone: (609) 884-5611.

2. Wednesday, August 7, 2019 at 6:30 p.m.: Internet webinar. Connection information to be posted at www.mafmc.org/council-events prior to the meeting.

3. Monday, September 9, 2019 at 6:30 p.m.: LaQuinta Inns & Suites, 300 S Salisbury Blvd., Salisbury, MD 21801; telephone: (410) 546-4400.

4. Tuesday, September 10, 2019 at 6:30 p.m.: Radisson Hotel Providence Airport. 2081 Post Rd., Warwick, RI 02886; telephone: (401) 739-3000.

Special Accommodations

These hearings are physically accessible to people with disabilities. Requests for sign language interpretation or other auxiliary aids should be directed to M. Jan Saunders at the Mid-Atlantic Council Office (302) 526-5251 at least 5 days prior to the hearing date.

Dated: June 25, 2019.
Tracey L. Thompson,
Acting Deputy Director, Office of Sustainable Fisheries, National Marine Fisheries Service.

[FR Doc. 2019-13897 Filed 6-27-19; 8:45 am]

BILLING CODE 3510-22-P